DEPARTMENT OF DEFENSE

Department of the Navy

Notice of Intent To Grant Partially Exclusive License; Henkel Corporation

AGENCY: Department of the Navy, DOD.

ACTION: Notice.

SUMMARY: The Department of the Navy gives notice of its intent to grant to Henkel Corporation, a revocable, nonassignable, partially exclusive license to practice in the United States and certain foreign countries, the Government-Owned inventions, as identified in U.S. Patent Number 6,375,726 entitled “Corrosion Resistant Coatings for Aluminum and Aluminum Alloys”, Navy Case No. 82512, Inventors Matzdorf et al., Issue Date 23 April 2002, Patent Cooperation Treaty (PCT) filing. U.S. Patent Number 6,511,532 entitled “Post Treatment for Anodized Aluminum”, Navy Case No. 83248, Inventors Matzdorf et al., Issue Date 28 January 2003, PCT filling. U.S. Patent Number 6,521,029 entitled Pretreatment for Aluminum and Aluminum Alloys”, Navy Case No. 83393, Inventors Matzdorf et al., Issue Date 18 Feb 2003. U.S. Patent Number 6,527,841 entitled “Post Treatment for Metal Coated Substrates”, Navy Case No. 83075, Inventors Matzdorf et al., Issue Date 4 March 2003, PCT filing, in the field of corrosion prevention.

DATES: Anyone wishing to object to the granting of this license must file written objections along with supporting evidence, if any, not later than 20 October 2003.

ADDRESSES: Written objections are to be filed with Naval Air Warfare Center Aircraft Division, Business Development Office, Office of Research and Technology Applications, Building 304, Room 107, 22541 Millstone Road, Patuxent River, MD 20670.

FOR FURTHER INFORMATION CONTACT: Mr. Paul Fritz, Naval Air Warfare Center Aircraft Division, Business Development Office, Office of Research and Technology Applications, Building 304, Room 107, 22541 Millstone Road, Patuxent River, MD 20670, telephone (301) 342-5586. Due to U.S. Postal delays, please fax: (301) 342-1134, E-Mail: paul.fritz@navy.mil or use courier delivery to expedite response.

(Authority: 35 U.S.C. 207, 37 CFR part 404.)

Dated: October 10, 2003.
E.F. McDonnell,
Major, U.S. Marine Corps, Federal Register Liaison Officer.

[FR Doc. 03-26641 Filed 10-21-03; 8:45 am]

BILLING CODE 3810-FF-P